ENVIRONMENTAL PROTECTION AGENCY

[EPA-HQ-OAR-2013-0566; FRL-9979-72-OAR]

RIN 2060-AT68

Public Hearing for and Extension of Comment Period on Review of the Primary National Ambient Air Quality Standard for Sulfur Oxides

AGENCY: Environmental Protection Agency (EPA).

ACTION: Notice of public hearing and extension of public comment period.

SUMMARY: The Environmental Protection Agency (EPA) is announcing that a public hearing will be held on the EPA's proposed decision in its “Review of the Primary National Ambient Air Quality Standard for Sulfur Oxides,” which was published in the Federal Register on June 8, 2018 (83 FR 26752). The EPA is proposing to retain the existing standard without revision. The hearing will be held on Tuesday, July 10, 2018, in Washington, DC. The EPA is additionally announcing a 17-day extension of the comment period for this proposed decision. The original comment period was to end on July 23, 2018. The extended comment period will now close on August 9, 2018.

DATES: The public hearing will be held on July 10, 2018, in Washington, DC (see SUPPLEMENTARY INFORMATION for additional information on the public hearing). The comment period on the proposed decision announced in the Federal Register on June 8, 2018 (83 FR 26752), is extended. Comments must be received on or before August 9, 2018.

ADDRESSES: Public Hearing. The July 10, 2018, public hearing will be held at the EPA, William Jefferson Clinton East Building, Room 1117, 1201 Constitution Avenue NW, Washington, DC 20004. Identification is required. If your driver's license is issued by America Samoa, you must present an additional form of identification to enter (see SUPPLEMENTARY INFORMATION for additional information on this location). Submit your comments, identified by Docket ID No. EPA-HQ-OAR-2013-0566, to the Federal eRulemaking Portal: https://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit https://www2.epa.gov/dockets/commenting-epa-dockets.

Docket: All documents in the docket are listed in the https://www.regulations.gov index. Although listed in the index, some information is not publicly available, e.g., CBI or other information whose disclosure is restricted by statute. Certain other material, such as copyrighted material, will be publicly available only in hard copy. Publicly available docket materials are available either electronically in https://www.regulations.gov or in hard copy at the EPA Docket Center Reading Room, William Jefferson Clinton West Building, 1301 Constitution Avenue NW, Washington, DC 20004. The Public Reading Room is open from 8:30 a.m. to 4:30 p.m., Monday through Friday, excluding legal holidays. The phone number for the Public Reading Room is (202) 566-1744.

FOR FURTHER INFORMATION CONTACT: If you would like to speak at the public hearing, please register using the online registration form available at: https://www.epa.gov/so2-pollution/primary-national-ambient-air-quality-standard-naaqs-sulfur-dioxide or contact Ms. Regina Chappell, U.S. Environmental Protection Agency, Office of Air Quality Planning and Standards (OAQPS) (Mail Code C304-03), Research Triangle Park, NC 27711, telephone number: (919) 541-3650; fax number (919) 541-0942; email: chappell.regina@epa.gov, no later than 4:00 p.m. Eastern Time (ET) on July 6, 2018. If you have any questions relating to the public hearing, please contact Ms. Chappell.

For further information concerning the review of the primary national ambient air quality standard (NAAQS) for sulfur oxides, please contact Dr. Nicole Hagan, U.S. Environmental Protection Agency, OAQPS (Mail Code C504-06), Research Triangle Park, NC 27711; telephone number: (919) 541-3153; fax number: (919) 541-5315; email: hagan.nicole@epa.gov.

SUPPLEMENTARY INFORMATION: The EPA is reviewing the primary NAAQS for sulfur oxides as required under section 109 (42 U.S.C. 7409) of the Clean Air Act (CAA). The EPA's proposed decision to retain the current primary NAAQS for sulfur oxides without revision was published in the Federal Register on June 8, 2018 (83 FR 26752). The Federal Register notice of the proposed decision specified a 45-day public comment period and indicated that a public hearing would be held during the public comment period if one was requested by June 15, 2018. On June 8, we received a request for a public hearing. In keeping with the schedule of this NAAQS review, which is governed by a consent decree, the date for the public hearing will be July 10, 2018. Further, consistent with CAA section 307(d)(5) (42 U.S.C. 7607(d)(5)), this notice additionally extends the public comment period by 17 days, until August 9, 2018.

The public hearing will provide interested parties the opportunity to present data, views, or arguments concerning the EPA's proposed decision in the current review of the primary NAAQS for sulfur oxides. The EPA may ask clarifying questions during the oral presentations, but will not respond to the presentations at that time. If you would like to present oral testimony at the hearing, please register using the online registration form available at: https://www.epa.gov/so2-pollution/primary-national-ambient-air-quality-standard-naaqs-sulfur-dioxide or notify Ms. Regina Chappell, U.S. Environmental Protection Agency, OAQPS (Mail Code C304-03), Research Triangle Park, NC 27711, telephone number: (919) 541-3650; fax number (919) 541-0942; email: chappell.regina@epa.gov, no later than 4:00 p.m. ET on July 6, 2018. Ms. Chappell will arrange a general time slot for you to speak. The EPA will make every effort to follow the schedule as closely as possible on the day of the hearing. Oral testimony will be limited to 5 minutes for each commenter. The EPA encourages commenters to provide the EPA with a copy of their oral testimony electronically (via email) or in hard copy form. Commenters should notify Ms. Chappell if they need specific translation services for non-English speaking commenters.

The public hearing will convene at 9:00 a.m. and end at 6:00 p.m. ET or 2 hours after the last registered speaker has spoken, whichever is earlier. The EPA will make every effort to accommodate all individuals interested in providing oral testimony. A lunch break is scheduled from 12:00 p.m. until 1:00 p.m. The hearing schedule, including the list of speakers, will be posted on the EPA's website at https://www.epa.gov/so2-pollution/primary-national-ambient-air-quality-standard-naaqs-sulfur-dioxide prior to the hearing. Verbatim transcripts of the hearing and written statements will be included in the docket for the action.

This hearing will be held at a U.S. government facility. Individuals planning to attend the hearing should be prepared to show valid picture identification, such as a driver's license, to the security staff in order to gain access to the meeting room. However, driver's licenses from states and territories that do not comply with the REAL ID Act will not be accepted as identification. The REAL ID Act, passed by Congress in 2005, established new requirements for entering federal facilities. These requirements took effect on July 21, 2014. If your driver's license is issued by American Samoa, you must present an alternative form of identification to enter the federal building where the public hearing will be held. Acceptable alternative forms of identification include: Federal employee badges, passports, enhanced driver's licenses and military identification cards. For additional information for the status of your state regarding the REAL ID Act, go to https://www.dhs.gov/real-id-enforcement-brief. For additional information on building access and alternative forms of identification, go to https://www.epa.gov/aboutepa/visiting-epa-headquarters.

How can I get copies of this document and other related information?

The EPA has established a docket for this action under Docket ID No. EPA-HQ-OAR-2013-0566 (available at https://www.regulations.gov). The EPA has also made available information related to the proposed action on the following website: https://www.epa.gov/so2-pollution/primary-national-ambient-air-quality-standard-naaqs-sulfur-dioxide.

Dated: June 15, 2018.
Panagiotis Tsirigotis,
Director, Office of Air Quality Planning and Standards.

[FR Doc. 2018-13325 Filed 6-20-18; 8:45 am]

BILLING CODE 6560-50-P